DEPARTMENT OF COMMERCE

International Trade Administration

[A-122-853]

Citric Acid and Certain Citrate Salts From Canada: Final Results of Antidumping Duty Administrative Review; 2012-2013

AGENCY: Enforcement and Compliance, International Trade Administration, Department of Commerce.

SUMMARY: On February 24, 2014, the Department of Commerce (the Department) published the preliminary results of the fourth administrative review of the antidumping duty order on citric acid and certain citrate salts (citric acid) from Canada.¹ The review covers one producer and exporter of the subject merchandise, Jungbunzlauer Canada Inc. (JBL Canada). The period of review (POR) is May 1, 2012, through April 30, 2013.

¹ See Citric Acid and Certain Citrate Salts From Canada: Preliminary Results of Antidumping Duty Administrative Review; 2012-2013, 79 FR 10093 (February 24, 2014) (Preliminary Results).

Based on our analysis of the comments received, we have made changes to our margin calculations. The final weighted-average dumping margin for JBL Canada is listed below in the “Final Results of Review” section of this notice.

DATES: Effective Date: July 1, 2014.

FOR FURTHER INFORMATION CONTACT: Rebecca Trainor or Kate Johnson, AD/CVD Operations, Office II, Enforcement and Compliance, International Trade Administration, U.S. Department of Commerce, 14th Street and Constitution Avenue NW., Washington, DC, 20230; telephone (202) 482-4007 or (202) 482-4929, respectively.

SUPPLEMENTARY INFORMATION:

Background

The review covers one producer and exporter of the subject merchandise, JBL Canada. On February 24, 2014, the Department published in the Federal Register the preliminary results of the instant administrative review of the antidumping duty order on citric acid from Canada. We invited parties to comment on the preliminary results of the review. In March 2014, we received case and rebuttal briefs from Archer Daniels Midland Company, Cargill, Incorporated, and Tate & Lyle Ingredients Americas LLC (collectively, the petitioners) and JBL Canada. The Department has conducted this administrative review in accordance with section 751 of the Tariff Act of 1930, as amended (the Act).

Scope of the Order

The merchandise covered by this order is citric acid and certain citrate salts. The product is currently classified in the Harmonized Tariff Schedule of the United States (HTSUS) at item numbers 2918.14.0000 and 2918.15.1000, 2918.15.5000 and 3824.90.9290. Although the HTSUS numbers are provided for convenience and customs purposes, the full written scope description, as described in the memorandum entitled “Issues and Decision Memorandum for the Final Results of the 2012-2013 Antidumping Duty Administrative Review of Citric Acid and Certain Citrate Salts from Canada,” dated concurrently with and hereby adopted by this notice (Issues and Decision Memorandum), remains dispositive.

Period of Review

The POR is May 1, 2012, through April 30, 2013.

Analysis of Comments Received

All issues raised by parties in the case and rebuttal briefs are addressed in the Issues and Decision Memorandum. A list of the issues raised is attached to this notice as Appendix I. The Issues and Decision Memorandum is a public document and is on file electronically via Enforcement and Compliance's Antidumping and Countervailing Duty Centralized Electronic Service System (IA ACCESS). IA ACCESS is available to registered users at http://iaaccess.trade.gov; the Issues and Decision Memorandum is available to all parties in the Central Records Unit (CRU), room 7046 of the main Department of Commerce building. In addition, a complete version of the Issues and Decision Memorandum can be accessed directly at http://enforcement.trade.gov/frn/. The signed and electronic versions of the Issues and Decision Memorandum are identical in content.

Changes Since The Preliminary Results

Based on a review of the record and comments received from interested parties regarding our Preliminary Results, we recalculated JBL Canada's weighted-average dumping margin. Our calculations are discussed in detail in the accompanying final calculation memorandum.²

² See Memorandum to the File entitled, “Final Results Margin Calculations for Jungbunzlauer Canada Inc.,” dated concurrently with and hereby adopted by this notice.

Final Results of the Review

We determine that a weighted-average dumping margin of 0.55 percent exists for entries of subject merchandise that were produced and/or exported by JBL Canada and that entered, or were withdrawn from warehouse, for consumption during the period May 1, 2012, through April 30, 2013.

Assessment Rates

Pursuant to 19 CFR 351.212(b)(1), the Department shall determine, and U.S. Customs and Border Protection (CBP) shall assess, antidumping duties on all appropriate entries in accordance with the final results of this review. Pursuant to 19 CFR 356.8(a), the Department intends to issue appropriate appraisement instructions for the respondent subject to this review directly to CBP 41 days after the date of publication of the final results of this review.

As we stated in the Preliminary Results, we calculated importer-specific ad valorem duty assessment rates based on the ratio of the total amount of antidumping duties calculated for the examined sales to the total entered value of the examined sales to that importer.³ We will instruct CBP to assess antidumping duties on all appropriate entries covered by this review if any importer-specific assessment rate calculated in the final results of this review is above de minimis (i.e., at or above 0.50 percent). Pursuant to 19 CFR 351.106(c)(2), we will instruct CBP to liquidate without regard to antidumping duties any entries for which the assessment rate is de minimis (i.e., less than 0.50 percent). The final results of this review shall be the basis for the assessment of antidumping duties on entries of merchandise covered by the final results of this review and for future deposits of estimated duties, where applicable.

³ See Preliminary Results, 79 FR at 10094.

Cash Deposit Requirements

The following cash deposit requirements will be effective for all shipments of the subject merchandise entered, or withdrawn from warehouse, for consumption on or after the publication date of the final results of this administrative review, as provided by section 751(a)(2)(C) of the Act: (1) The cash deposit rate for JBL Canada will be that established in the final results of this review, (2) for previously reviewed or investigated companies not participating in this review, the cash deposit rate will continue to be the company-specific rate published for the most recent period; (3) if the exporter is not a firm covered in this review, a previous review, or the original less-than-fair-value (LTFV) investigation, but the manufacturer is, the cash deposit rate will be the rate established for the most recent period for the manufacturer of the merchandise; and (4) the cash deposit rate for all other manufacturers or exporters will continue to be 23.21 percent, the all-others rate made effective by the LTFV investigation. See Citric Acid and Certain Citrate Salts From Canada and the People's Republic of China: Antidumping Duty Orders, 74 FR 25703 (May 29, 2009). These deposit requirements, when imposed, shall remain in effect until further notice.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

In accordance with 19 CFR 351.305(a)(3), this notice serves as the only reminder to parties subject to administrative protective order (APO) of their responsibility concerning the disposition of proprietary information disclosed under APO, which continues to govern business proprietary information in this segment of the proceeding. Timely written notification of the return or destruction of APO materials, or conversion to judicial protective order, is hereby requested. Failure to comply with the regulations and the terms of an APO is a sanctionable violation.

This administrative review and notice are published in accordance with sections 751(a)(1) and 777(i)(1) of the Act.

Dated: June 24, 2014.
Paul Piquado,
Assistant Secretary for Enforcement and Compliance.

Appendix—Issues in Decision Memorandum

I. Summary

II. Background

III. Scope of the Order

IV. Margin Calculations

V. Discussion of the Issues

1. Price Adjustment of a Business Proprietary Nature for Certain CEP Sales

2. Calculation of CEP Profit

3. Calculation of the U.S. Indirect Selling Expense Ratio

4. Missing Payment Dates

5. Differential Pricing Analysis

[FR Doc. 2014-15419 Filed 6-30-14; 8:45 am]

BILLING CODE 3510-DS-P